DEPARTMENT OF TRANSPORTATION

Federal Aviation Administration

14 CFR Part 39

[Docket No. FAA-2018-0797; Product Identifier 2018-NM-096-AD; Amendment 39-19521; AD 2018-25-10]

RIN 2120-AA64

Airworthiness Directives; Saab AB, Saab Aeronautics (Formerly Known as Saab AB, Saab Aerosystems) Airplanes

AGENCY: Federal Aviation Administration (FAA), Department of Transportation (DOT).

ACTION: Final rule.

SUMMARY: We are superseding Airworthiness Directive (AD) 2018-11-07, which applied to all Saab AB, Saab Aeronautics Model SAAB 2000 airplanes. AD 2018-11-07 required a one-time inspection of an affected lug attaching the aileron bellcrank support bracket to the rear spar of the wing and the adjacent area of the installed support brackets, a thickness measurement of the affected lug, repetitive inspections of the affected aileron bellcrank support brackets, and corrective actions if necessary. AD 2018-11-07 also provided an optional terminating action for the repetitive inspections. This AD retains the actions of AD 2018-11-07 and requires the terminating action for the repetitive inspections. This AD was prompted by a determination that it is necessary to require the terminating action. We are issuing this AD to address the unsafe condition on these products.

DATES: This AD is effective January 14, 2019.

The Director of the Federal Register approved the incorporation by reference of a certain publication listed in this AD as of June 13, 2018 (83 FR 24399, May 29, 2018).

ADDRESSES: For service information identified in this final rule, contact Saab AB, Saab Aeronautics, SE-581 88, Linköping, Sweden; telephone +46 13 18 5591; fax +46 13 18 4874; email saab2000.techsupport@saabgroup.com; internet http://www.saabgroup.com. You may view this referenced service information at the FAA, Transport Standards Branch, 2200 South 216th St., Des Moines, WA. For information on the availability of this material at the FAA, call 206-231-3195. It is also available on the internet at http://www.regulations.gov by searching for and locating Docket No. FAA-2018-0797.

Examining the AD Docket

You may examine the AD docket on the internet at http://www.regulations.gov by searching for and locating Docket No. FAA-2018-0797; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Shahram Daneshmandi, Aerospace Engineer, International Section, Transport Standards Branch, FAA, 2200 South 216th St., Des Moines, WA 98198; telephone and fax 206-231-3220.

SUPPLEMENTARY INFORMATION:

Discussion

We issued a notice of proposed rulemaking (NPRM) to amend 14 CFR part 39 to supersede AD 2018-11-07, Amendment 39-19295 (83 FR 24399, May 29, 2018) (“AD 2018-11-07”). AD 2018-11-07 applied to all Saab AB, Saab Aeronautics Model SAAB 2000 airplanes. The NPRM published in the Federal Register on September 19, 2018 (83 FR 47321). The NPRM was prompted by a determination that further rulemaking is necessary to include the requirement to replace all affected support brackets. The NPRM proposed to continue to require one-time inspection of the affected lug attaching the aileron bellcrank support bracket to the rear spar of the wing and the adjacent area of the installed aileron bellcrank support brackets, a thickness measurement of the affected lug attaching the support bracket to the rear spar of the wing, repetitive inspections of the affected aileron bellcrank support brackets, and corrective actions if necessary. The NPRM also proposed to require the replacement of all affected support brackets. We are issuing this AD to address the defect of the aileron bellcrank support bracket, which, in the event of an aileron jam, could lead to failure of the support bracket and result in reduced controllability of the airplane.

The European Aviation Safety Agency (EASA), which is the Technical Agent for the Member States of the European Union, has issued EASA AD 2018-0103, dated April 30, 2018 (referred to after this as the Mandatory Continuing Airworthiness Information, or “the MCAI”), to correct an unsafe condition for all Saab AB, Saab Aeronautics Model SAAB 2000 airplanes. You may examine the MCAI in the AD docket on the internet at http://www.regulations.gov by searching for and locating Docket No. FAA-2018-0797.

Comments

We gave the public the opportunity to participate in developing this final rule. We received no comments on the NPRM or on the determination of the cost to the public.

Conclusion

We reviewed the relevant data and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Saab AB, Saab Aeronautics has issued Saab Service Bulletin 2000-27-056, dated April 18, 2018. This service information was incorporated by reference in AD 2018-11-07 on June 13, 2018 (83 FR 24399, May 29, 2018). This service information describes procedures for a detailed visual inspection for cracks, corrosion, and damage (including missing paint) of the affected lug and the adjacent area of the installed aileron bellcrank support brackets on the left-hand and right-hand wings; a thickness measurement of the affected lug attaching the support bracket to the rear spar of the wing; and replacement of aileron bellcrank support brackets. This service information is reasonably available because the interested parties have access to it through their normal course of business or by the means identified in the ADDRESSES section.

Costs of Compliance

We estimate that this AD affects 8 airplanes of U.S. registry. We estimate the following costs to comply with this AD:

Estimated Costs
Labor cost | Parts cost | Cost per product | Cost on U.S. operators
Up to 19 work-hours × $85 per hour = $1,615 | Up to $18,074 | Up to $19,689 | Up to $157,512.

We have received no definitive data for the on-condition costs specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-11-07, Amendment 39-19295 (83 FR 24399, May 29, 2018), and adding the following new AD:

2018-25-10 Saab AB, Saab Aeronautics (Formerly Known as Saab AB, Saab Aerosystems): Amendment 39-19521; Docket No. FAA-2018-0797; Product Identifier 2018-NM-096-AD.

(a) Effective Date

This AD is effective January 14, 2019.

(b) Affected ADs

This AD replaces AD 2018-11-07, Amendment 39-19295 (83 FR 24399, May 29, 2018) (“AD 2018-11-07”).

(c) Applicability

This AD applies to Saab AB, Saab Aeronautics (formerly known as Saab AB, Saab Aerosystems) Model SAAB 2000 airplanes, certificated in any category, all manufacturer serial numbers.

(d) Subject

Air Transport Association (ATA) of America Code 27, Flight controls.

(e) Reason

This AD was prompted by the identification of a manufacturing defect on certain aileron bellcrank support brackets that resulted in insufficient material thickness of the affected lug attaching the support bracket to the rear spar of the wing. We are issuing this AD to detect and correct a defect of the aileron bellcrank support bracket, which, in the event of an aileron jam, could lead to failure of the support bracket and result in reduced controllability of the airplane.

(f) Compliance

Comply with this AD within the compliance times specified, unless already done.

(g) Retained Definitions, With No Changes

(1) This paragraph restates the definition specified in paragraph (g)(1) of AD 2018-11-07, with no changes. For the purposes of this AD, affected support brackets are aileron bellcrank support brackets, part number (P/N) 7327993-813 and P/N 7327993-814, for which it has been determined that the affected lug attaching the support bracket to the rear spar of the wing has a thickness of less than 2.75 millimeters (mm) (0.108 inch (in.)), as specified in Saab Service Bulletin 2000-27-056, dated April 18, 2018.

(2) This paragraph restates the definition specified in paragraph (g)(2) of AD 2018-11-07, with no changes. For the purposes of this AD, serviceable support brackets are aileron bellcrank support brackets, P/N 7327993-813 and P/N 7327993-814, for which it has been determined that the affected lug attaching the support bracket to the rear spar of the wing has a thickness of 2.75 mm (0.108 in.) or more, as specified in Saab Service Bulletin 2000-27-056, dated April 18, 2018.

(h) Retained One-Time Inspection, With No Changes

This paragraph restates the requirements of paragraph (h) of AD 2018-11-07, with no changes. Within 100 flight cycles or 30 days, whichever occurs first after June 13, 2018 (the effective date of AD 2018-11-07), accomplish a detailed visual inspection for cracks, corrosion, and damage (including missing paint) of the affected lug and the adjacent area of the aileron bellcrank support brackets installed on the left-hand (LH) and right-hand (RH) wings, and measure the thickness of the affected lug attaching the aileron bellcrank support bracket to the rear spar of the wing, in accordance with the Accomplishment Instructions of Saab Service Bulletin 2000-27-056, dated April 18, 2018.

(i) Retained Repetitive Inspections, With No Changes

This paragraph restates the requirements of paragraph (i) of AD 2018-11-07, with no changes. If, during the measurement required by paragraph (h) of this AD, it is determined that the affected lug attaching the aileron bellcrank support bracket to the rear spar of the wing has a thickness of less than 2.75 mm (0.108 in.), at intervals not to exceed 100 flight cycles, accomplish a detailed visual inspection for cracks, corrosion, and damage (including missing paint) of that affected support bracket in accordance with the Accomplishment Instructions of Saab Service Bulletin 2000-27-056, dated April 18, 2018. Accomplishing the replacement specified in paragraph (l) of this AD terminates the repetitive inspections required by this paragraph for that bracket.

(j) Retained Corrective Actions, With No Changes

This paragraph restates the requirements of paragraph (j) of AD 2018-11-07, with no changes. If, during any inspection required by paragraph (h) or (i) of this AD, any crack, corrosion, or damage (including missing paint) is found, before further flight, obtain corrective actions instructions approved by the Manager, International Section, Transport Standards Branch, FAA; or the European Aviation Safety Agency (EASA); or Saab AB, Saab Aeronautics' EASA Design Organization Approval (DOA). If approved by the DOA, the approval must include the DOA-authorized signature. Accomplish the corrective actions within the compliance time specified therein. If no compliance time is specified in the corrective actions instructions, accomplish the corrective action before further flight.

(k) Retained Parts Installation Limitation, With No Changes

This paragraph restates the requirements of paragraph (m) of AD 2018-11-07, with no changes. As of June 13, 2018 (the effective date of AD 2018-11-07), it is allowed to install on any airplane an aileron bellcrank support bracket P/N 7327993-813 or P/N 7327993-814, provided it is a serviceable support bracket.

(l) New Requirement of This AD: Replacement

Within 6 months after the effective date of this AD, replace each affected support bracket with a serviceable support bracket, in accordance with the Accomplishment Instructions of Saab Service Bulletin 2000-27-056, dated April 18, 2018. Replacing each affected support bracket terminates the inspections required by paragraph (i) of this AD for that airplane.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2018-11-07, are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Saab AB, Saab Aeronautics' EASA Design Organization Approval (DOA). If approved by the DOA, the approval must include the DOA-authorized signature.

(n) Related Information

(1) Refer to Mandatory Continuing Airworthiness Information (MCAI) EASA Airworthiness Directive 2018-0103, dated April 30, 2018, for related information. This MCAI may be found in the AD docket on the internet at http://www.regulations.gov by searching for and locating Docket No. FAA-2018-0797.

(2) For more information about this AD, contact Shahram Daneshmandi, Aerospace Engineer, International Section, Transport Standards Branch, FAA, 2200 South 216th St., Des Moines, WA 98198; telephone and fax 206-231-3220.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 13, 2018 (83 FR 24399, May 29, 2018).

(i) Saab Service Bulletin 2000-27-056, dated April 18, 2018.

(ii) [Reserved]

(4) For service information identified in this AD, contact Saab AB, Saab Aeronautics, SE-581 88, Linköping, Sweden; telephone +46 13 18 5591; fax +46 13 18 4874; email saab2000.techsupport@saabgroup.com; internet http://www.saabgroup.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on November 29, 2018.
James Cashdollar,
Acting Director, System Oversight Division, Aircraft Certification Service.

[FR Doc. 2018-26530 Filed 12-7-18; 8:45 am]

BILLING CODE 4910-13-P